DEPARTMENT OF ENERGY

Federal Energy Regulatory Commission

[Docket No. CP00-370-000]

Transcontinental Gas Pipe Line Corporation and Columbia Gas Transmission Corporation; Notice of Application

June 8, 2000.

Take notice that on May 26, 2000, Transcontinental Gas Pipe Line Corporation (Transco), One Williams Center, Suite 4100, Tulsa, Oklahoma, 74172 and Columbia Gas Transmission Corporation, 12801 Fair Lakes Parkway, Fairfax, Virginia 22030-1046 (Columbia) (jointly referred to as Applicants), tendered for filing a joint application pursuant to Section 7(b) of the Natural Gas Act (NGA) to abandon a natural gas transportation and exchange agreement under Transco's Rate Schedule X-98 and Columbia's Rate Schedule X-45, all as more fully set forth in the application, which is on file and open to public inspection. The application may be viewed on the web at www.ferc.fed.us/online/rims.htm (call (202) 208-2222 for assistance).

Applicants assert that no construction or abandonment of any facility is proposed. Applicants also state that a Pipeline Interconnect Balancing Agreement (OBA) covering all active interconnections between the two respective systems became effective December 1, 1999, which rendered Columbia's Rate Schedule X-45 and Transco's Rate Schedule X-98 unnecessary. Therefore, Applicants herein seek Commission authorization for the abandonment of the above-mentioned Rate Schedules and the transportation service provided thereunder.

Any questions regarding this application should be directed to Bruce B. Glendening, Senior Attorney, 12801 Fair Lakes Parkway, P.O. Box 10146, Fairfax, Virginia 22030-0146 (703) 227-3360 for Columbia Gas, and Stephen A. Hatridge, Senior Counsel, P.O. Box 1396, Houston, Texas, 77251-1396 at (713) 215-2312 for Transco.

Any person desiring to be heard or to protest this filing should file a motion to intervene or protest with the Federal Energy Regulatory Commission, 888 First Street, N.E., Washington, D.C. 20426, on or before June 22, 2000, in accordance with Sections 385.214 and 385.211 of the Commission's Rules and Regulations. Protests will be considered by the Commission in determining the appropriate action to be taken, but will not serve to make Protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment is required by the public convenience and necessity. If a motion for leave to intervene is timely filed, or if the Commission on its own motion believes that a formal hearing is required, further notice of such hearing will be duly given.

Under the procedure herein provided for, unless otherwise advised, it will be unnecessary for Applicants to appear or be represented at the hearing.

David P. Boergers,
Secretary.

[FR Doc. 00-14987 Filed 6-13-00; 8:45 am]

BILLING CODE 6717-01-M